FEDERAL COMMUNICATIONS COMMISSION

[CG Docket No. 03-123; DA 18-733]

Notice of Certification of State Telecommunications Relay Services (TRS) Programs

AGENCY: Federal Communications Commission.

ACTION: Notice.

SUMMARY: In this document, the Federal Communications Commission's (FCC or Commission) Consumer and Governmental Affairs Bureau (Bureau) hereby grants renewals of certifications to the state and U.S. territory TRS programs listed below.

DATES: These certifications, conditioned on a demonstration of ongoing compliance with the Commission's rules governing TRS, shall remain in effect for a five (5) year period, beginning July 26, 2018, and ending July 25, 2023, pursuant to 47 CFR 64.606(c). Beginning one year prior to the expiration of these certifications, July 25, 2022, each state or U.S. territory may apply for renewal of its TRS program certification by filing documentation in accordance with the Commission's rules, pursuant to 47 CFR 64.606(a).

FOR FURTHER INFORMATION CONTACT: Dana Wilson, Consumer and Governmental Affairs Bureau at: (202) 418-2247; email: Dana.Wilson@fcc.gov.

SUPPLEMENTARY INFORMATION: The full text of this document and copies of the filed applications are available for public inspection and copying during regular business hours at the FCC Reference Information Center, Portal II, 445 12th Street SW, Room CY-A257, Washington, DC 20554. Applications also may be found by searching on the Commission's Electronic Comment Filing System at: http://apps.fcc.gov/ecfs/ (insert CG Docket No. 03-123 into the Proceeding block). This document can also be downloaded in Word and Portable Document Format (PDF) at https://www.fcc.gov/general/disability-rights-office-headlines.

To request materials in accessible formats for people with disabilities (Braille, large print, electronic files, audio format), send an email to fcc504@fcc.gov or call the Consumer and Governmental Affairs Bureau at (202) 418-0530 (voice), (844) 432-2275 (videophone), or (202) 418-0432 (TTY).

Synopsis

After reviewing each of the state and U.S. territory applications received, the Bureau has determined that:

(1) The TRS programs of the listed states and U.S. territories meet or exceed all operational, technical, and functional minimum standards contained in § 64.604 of the Commission's rules;

(2) The TRS programs of the listed states and U.S. territories make available adequate procedures and remedies for enforcing the requirements of their state and U.S. territory programs; and

(3) The TRS programs of the listed states and U.S. territories in no way conflict with federal law.

The Bureau also has determined that, where applicable, the intrastate funding mechanisms of the listed states and U.S. territories are labeled in a manner that promotes national understanding of TRS and does not offend the public, consistent with § 64.606(d) of the Commission's rules.

STATES AND U.S. TERRITORIES APPROVED FOR CERTIFICATION

File No: TRS-46-17

Alabama Public Service Commission

State of Alabama

File No: TRS-19-17

Regulatory Commission of Alaska

State of Alaska

File No: TRS-47-17

Arkansas Deaf and Hearing Impaired Telecommunications Service Corporation

State of Arkansas

File No: TRS-02-17

Arizona Commission for the Deaf and Hard of Hearing

State of Arizona

File No: TRS-32-17

California Public Utilities Commission

State of California

File No: TRS-23-17

Colorado Public Utilities Commission

State of Colorado

File No: TRS-48-17

Connecticut Public Utilities Regulatory Authority

State of Connecticut

File No: TRS-35-17

Delaware Public Service Commission

State of Delaware

File No: TRS-49-17

Public Service Commission of the District of Columbia

District of Columbia

File No: TRS-50-17

Florida Public Service Commission

State of Florida

File No: TRS-51-17

Georgia Public Service Commission

State of Georgia

File No: TRS-22-17

Hawaii Public Utilities Commission

State of Hawaii

File No: TRS-43-17

Idaho Public Service Commission

State of Idaho

File No: TRS-10-17

Illinois Commerce Commission

State of Illinois

File No: TRS-08-17

Indiana Telephone Relay Access Corporation

State of Indiana

File No: TRS-03-17

Iowa Utilities Board

State of Iowa

File No: TRS-07-17

Kansas Dual Party Relay Services

State of Kansas

File No: TRS-52-17

Kentucky Public Service Commission

Commonwealth of Kentucky

File No: TRS-13-17

Louisiana Relay Administration Board

State of Louisiana

File No: TRS-53-17

Maine Telecommunications Relay Service Advisory Council

State of Maine

File No: TRS-33-17

Maryland Department of Information Technology Telecommunications Access of Maryland

State of Maryland

File No: TRS-34-17

Massachusetts Department of Telecommunications and Cable

Commonwealth of Massachusetts

File No: TRS-54-17

Michigan Public Service Commission

State of Michigan

File No: TRS-39-17

Minnesota Department of Commerce—Telecommunications Access Minnesota

State of Minnesota

File No: TRS-55-17

Mississippi Public Service Commission

State of Mississippi

File No: TRS-15-17

Missouri Public Service Commission

State of Missouri

File No: TRS-56-17

Montana Department of Public Health and Human Services

State of Montana

File No: TRS-40-17

Nebraska Public Service Commission

State of Nebraska

File No: TRS-25-17

Nevada Department of Health and Human Services Aging and Disability Services

State of Nevada

File No: TRS-42-17

New Hampshire Public Service Commission

State of New Hampshire

File No: TRS-45-17

New Jersey Board of Public Utilities

State of New Jersey

File No: TRS-14-17

New Mexico Commission for the Deaf and Hard of Hearing

State of New Mexico

File No: TRS-16-17

New York State Department of Public Service

State of New York

File No: TRS-30-17

North Carolina Utilities Commission

State of North Carolina

File No: TRS-12-17

North Dakota Public Service Commission

State of North Dakota

File No: TRS-37-17

Public Utilities Commission of Ohio

State of Ohio

File No: TRS-57-17

Oklahoma Telephone Association

State of Oklahoma

File No: TRS-36-17

Oregon Public Utility Commission

State of Oregon

File No: TRS-58-17

Pennsylvania Public Utility Commission

Commonwealth of Pennsylvania

File No: TRS-28-17

Telecommunications Regulatory Board of Puerto Rico

Puerto Rico

File No: TRS-59-17

Rhode Island Public Utilities Commission

State of Rhode Island

File No: TRS-62-17

Micronesian Telephone Corporation d/b/a Pacific Telecom, Inc.

Saipan

File No: TRS-11-17

South Carolina Public Service Commission

State of South Carolina

File No: TRS-60-17

Public Service Commission of South Dakota

State of South Dakota

File No: TRS-20-17

Tennessee Public Utility Commission

State of Tennessee

File No: TRS-17-17

Public Utility Commission of Texas

State of Texas

File No: TRS-61-17

Virgin Islands Public Service Commission

U.S. Virgin Islands

File No: TRS-09-17

Utah Public Service Commission

State of Utah

File No: TRS-44-17

Vermont Department of Public Service

State of Vermont

File No: TRS-04-17

Virginia Department for the Deaf and Hard of Hearing

Commonwealth of Virginia

File No: TRS-27-17

Washington Department of Social and Health Services

Office of the Deaf and Hard of Hearing

State of Washington

File No: TRS-06-17

Public Service Commission of West Virginia

State of West Virginia

File No: TRS-01-17

Wisconsin Department of Administration

Wisconsin Telecommunications Relay Systems

State of Wisconsin

File No: TRS-18-17

Wyoming Department of Workforce Services

Division of Vocational Rehabilitation

State of Wyoming

Federal Communications Commission.
Eliot Greenwald,
Deputy Chief, Disability Rights Office, Consumer and Governmental Affairs Bureau.

[FR Doc. 2018-16041 Filed 7-26-18; 8:45 am]

BILLING CODE 6712-01-P